DEPARTMENT OF TRANSPORTATION

Federal Aviation Administration

Twenty Five Meeting: RTCA Special Committee 214/EUROCAE WG-78: Standards for Air Traffic Data Communication Services

AGENCY: Federal Aviation Administration (FAA), U.S. Department of Transportation (DOT).

ACTION: RTCA Special Committee 214 held jointly with EUROCAE WG-78: Standards for Air Traffic Data Communication Services meeting.

SUMMARY: The FAA is issuing this notice to advise the public of twenty five meeting of RTCA Special Committee 214 to be held jointly with EUROCAE WG-78: Standards for Air Traffic Data Communication Services.

DATES: The meeting will be held January 13th, 2016 from 10:00 a.m. to 12:00 p.m.

ADDRESSES: The meeting will be held on WebEx Primary at 1150 18th Street NW., Suite 910. Note: This is intended to be a Short WebEx session versus a full in place session.

FOR FURTHER INFORMATION CONTACT: Karen Hofmann, 202-330-0680, khofmann@rtca.org or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 214/EUROCAE WG-78: Standards for Air Traffic Data Communication Services. The meeting objectives are to resolve issue that came up after last plenary resolution and approval of comments received during FRAC/Open consultation of Revision A to Baseline 2 Standards SPR and INTEROPS and approve the documents for submission to RTCA PMC and EUROCAE Council for publication.

The agenda will include the following:

January 13th

• Welcome/Introduction/Administrative Remarks

• Approval of the Agenda of Plenary 25

• Approval of the Minutes of Plenary 24

• Description of new finding and approach to resolve

• Approval of resolution and submission of documents to RTCA PMC and EUROCAE Council for publication

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 4, 2016.
Mohannad Dawoud,
Management Analyst, Procurement Division, ANG-A1, Federal Aviation Administration.

[FR Doc. 2016-00181 Filed 1-7-16; 8:45 am]

BILLING CODE 4910-13-P